ENVIRONMENTAL PROTECTION AGENCY

[FRL-7017-8]

Agency Information Collection Activities: Proposed Collection; Comment Request; “Reliability, Validity, and Variability in Behavioral Determinants of Drinking Water Disinfection By-Product Exposure”

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Reliability, Validity, and Variability in Behavior Determinants of Drinking Water Disinfection By-Product Exposure, EPA ICR No. 2030.01. Before submitting the ICR to OMB for review and approval, EPA is soliciting comments on specific aspects of the proposed information collection as described below.

DATES: Comments must be submitted on or before September 25, 2001.

ADDRESSES: Interested persons may obtain a copy of the ICR without charge by contacting or e-mailing a request to Dr. Patricia Murphy, U.S. Environmental Protection Agency, Office of Research and Development, National Center for Environmental Assessment, Mail Code 104, 2890 Woodbridge Avenue, Bldg. 10, Edison, NJ 08837-3679; phone: 732-906-6830, fax: 732-906-6845, e-mail: murphy.patricia@epa.gov.

FOR FURTHER INFORMATION CONTACT: Dr. Patricia A. Murphy, U.S. Environmental Protection Agency, Office of Research and Development, National Center for Environmental Assessment, Mail Code 104, 2890 Woodbridge Avenue, Bldg. 10, Edison, NJ 08837-3679; phone: 732-906-6830, fax: 732-906-6845, e-mail: murphy.patricia@epa.gov

SUPPLEMENTARY INFORMATION: Affected entities: Entities potentially affected by this action are those which participate in the parent AWWARF Study.

Title: Reliability, Validity, and Variability in Behavior Determinants of Drinking Water disinfection By-Product Exposure, EPA ICR No. 2030.01.

Abstract: This study aims to characterize the reliability, validity, and variability of questionnaire-based information on water usage patterns collected in environmental epidemiologic studies. The study builds on a recently funded study entitled, “Drinking Water Disinfectant By-products and Spontaneous Abortion,” funded by the American Water Works Association Research Foundation (AWWARF) which was recently initiated. The present study will add a substudy component to the parent AWWARF study. It provides for reinterview of a 10% sample (300 women) of the parent study participants for a reliability substudy and an additional 10% sample (300 women) for a validity substudy. The human behavioral aspects, i.e., water usage patterns over time, that will affect one's coming into contact with an ambient level of a particular chemical, is an important source of variability and this has not been well characterized in previous drinking water epidemiology studies. Better characterization of the reliability, variability, and validity of this information, generally obtained through recall in a questionnaire, will decrease uncertainties related to misclassification of the exposure variables and enhance our ability to more clearly interpret the validity and accuracy of reported study findings. All participation and responses are voluntary. Confidentiality of responses will be maintained. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: A total of 525 burden-hours are estimated for the study participants. 300 women will be sampled from the parent study to complete the reliability substudy. At their scheduled reinterview time in the parent study, they will be asked to repeat a section of the questionnaire on their water usage patterns to determine the accuracy of their recall from their entry response. This reporting is estimated to take approximately 15 minutes for each of 300 women, totaling approximately 75 hours of reporting time. For the second component of the study, an additional 300 women will be sampled and asked to provide, for 3 randomly selected days, a 24 hour recall response to their estimate of water consumption on the previous day, which will be compared to the amount reported at baseline in the parent study. This reporting is estimated to take approximately 30 minutes for 3 occasions for each of 300 women, totaling approximately 450 hours of reporting time. All participants will receive an incentive payment for their time. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 18, 2001.
Art Payne,
Acting Director, National Center for Environmental Assessment.

[FR Doc. 01-18823 Filed 7-26-01; 8:45 am]

BILLING CODE 6560-50-P